DEPARTMENT OF TRANSPORTATION

Federal Aviation Administration

14 CFR Part 183

[Docket No. FAA-2024-2063]

FAA Requests Public Comment on Possible Delegation of Certain Air Operator Certification Tasks

AGENCY: Federal Aviation Administration (FAA), Department of Transportation.

ACTION: Request for comments.

SUMMARY: The FAA issues this document to assess interest in and invite public comment on the possible expansion of FAA's delegation program to include new certification tasks that might be accomplished by individual designees or Organization Designation Authorization (ODA) holders. The expanded tasks being considered are certification of all commuter and on-demand operator types, excluding 10 or more passenger operations. The effort may require the FAA to initiate rulemaking corresponding with additional certification tasks for individual designees and a revision to policy for additional ODA authorized functions.

DATES: Comments must be received by February 3, 2025.

ADDRESSES: Send comments identified by docket number FAA-2024-2063, using any of the following methods:

Federal eRulemaking Portal: Go to https://www.regulations.gov and follow the online instructions for sending your comments electronically.

Electronic mail: Send comments to 9-AVS-ODA-Office@faa.gov.

Mail: Send comments to Docket Operations, M-30, U.S. Department of Transportation (DOT), 1200 New Jersey Avenue SE, Room W12-140, West Building Ground Floor, Washington, DC 20590-0001.

Hand Delivery or Courier: Take comments to Docket Operations in Room W12-140 of the West Building Ground Floor at 1200 New Jersey Avenue SE, Washington, DC, between 9 a.m., and 5 p.m., Monday through Friday, except Federal holidays.

Fax: Fax comments to Docket Operations at (202) 493-2251.

All comments received will be posted without change to https://www.regulations.gov. All comments, including attachments and other supporting material, will become part of the public record and subject to public disclosure.

Confidential Business Information (CBI): CBI is commercial or financial information that is customarily and treated as private by its owner. Under the Freedom of Information Act (FOIA) (5 United States Code (U.S.C.) 552), CBI is exempt from public disclosure. If your comments in response to this Notice contain commercial or financial information that is customarily treated as private, that you actually treat as private, and that is relevant or responsive to this Notice, it is important that you clearly designate the submitted comments as CBI. Please mark each page of your submission containing CBI as “PROPIN” to indicate that it contains proprietary information. FAA will treat such marked submissions as confidential under FOIA and not place them in the public docket of this Notice. Submissions containing CBI should be sent to the individual listed in the FOR FURTHER INFORMATION CONTACT section.

FOR FURTHER INFORMATION CONTACT: Mr. Scott Geddie, Policy and Oversight Integration Section, AVS-64, AVS ODA Office, Federal Aviation Administration, by telephone at 405-954-6897 or by email at Scott.Geddie@faa.gov.

SUPPLEMENTARY INFORMATION:

Background

Delegation in the FAA has been foundational to accomplishing the agency's safety work for nearly 100 years. Title 49 U.S.C. 44702(d) grants the FAA the authority to delegate to private persons a matter related to the examination, testing, and inspection necessary to issue certificates and issuance of the certificate. Regulations implementing those statutory requirements are contained in 14 CFR part 183, Representatives of the Administrator. The initial rule for 14 CFR part 183 was published in 1962. Since that time, it has remained largely unchanged with few new designee types introduced. The last significant change occurred in 2009 with the introduction of the Organization Designation Authorization (ODA) when existing Designated Alteration Station (DAS), Delegation Option Authorization (DOA) and Special Federal Aviation Regulation 36 (SFAR 36) authorization programs were phased out. The FAA is now potentially seeking to broaden the scope of approved tasks performed under the delegation program to assist with FAA roles in part 135 operations certification activities.

In the last four years, the FAA Flight Standards Service (FS) experienced a steady increase in applications for Air Carrier, Air Operator, and Air Agency certificates. This increase has outpaced FAA's capacity to timely process applications and complete certifications.

Growing concerns from industry stakeholders, increased congressional mandates to improve the certification process, and continual growth of the aviation industry over the next decade will continue to affect FAA resources available to conduct initial certifications. Comprehensive changes in the delegation program may be one way to increase operational performance to meet the increase in demand and lower the impact on FS resources.

Description of Request for Comments on Expansion

To address this issue, the FAA is considering additions to and expansion of the current delegation program to include tasks associated with issuing operator certificates under 14 CFR part 135, excluding 10 or more passenger operations.

For individual designees, this effort would require the FAA to initiate rulemaking to amend part 183 and add these new certification tasks. Part 183, subpart C, Kinds of Designations: Privileges, does not allow an individual designee to perform functions related to operations. However, for organizations, current provisions in part 183, subpart D, Organization Designation Authorization, specifically §§ 183.41, 183.59, and 183.65, already contain privileges related to operations and may provide an efficient method to expand the delegation program to part 135 certification tasks. Accordingly, the FAA could expand the ODA program without rulemaking through a revision to its policy and guidance to include the additional ODA authorized functions for operations.

The information obtained from this Notice will assist the FAA in determining potential interest from qualified private persons with operations, training, and/or maintenance experience applicable to air carrier and/or air operator certification activities, and application activities involving FAA roles.

The FAA wishes to hear from the public and any stakeholders that would consider participating in an FAA delegation program specific to Part 135 certification tasks. Through this Notice, the FAA seeks information regarding:

• Recommended certification tasks to be delegated (refer to FAA Order 8900.1, Volume 2, Chapter 4, Section 1 through 8), available at https://drs.faa.gov/browse/ORDER_8900.1/doctypeDetails,

○ Phase 1—Preapplication

○ Phase 2—Formal Application (Safety Assurance System [SAS] Business Process Modules 1 and 2)

○ Phase 3—Design Assessment (SAS Business Process Modules 2, 3, & 4)

○ Phase 4—Performance Assessment (SAS Business Process Modules 2, 3, & 4)

○ Phase 5—Administrative Functions

○ Single-Pilot, Single Pilot-in-Command, and Basic Part 135 Operations

○ Evaluate a Part 135 (Nine or Less) Certificate Holder/Applicant's Maintenance Requirements

• Potential barriers to success,

• Steps the FAA should consider to optimize implementation success, and

• Commenters' business information including address, primary contact, FAA certificate(s) held, and experience with FAA operator certification tasks.

The following is intended to be an illustrative but not comprehensive list of possible certification tasks per FAA Order 8900.1 that are within the scope of this Notice.

• Review, evaluate, and accept certification application documents.

• Review, evaluate, and accept or approve operator manuals and written procedures, including operations and maintenance manuals.

• Review and evaluate personnel qualifications.

• Review and evaluate aircraft records.

• Evaluate applicant demonstration activities.

• Perform and evaluate aircraft configuration conformity.

• Review, evaluate, and approve aircraft inspection programs.

• Review, evaluate, and approve Minimum Equipment Lists (MEL).

• Issuance of operating certificates.

Comments Invited

The FAA invites interested parties to provide comments on this notice and the specific information requested in the preceding paragraph. Send your comments to an address listed under the ADDRESSES section. The subject line should state “Response to FAA's request for comment on possible delegation of 14 CFR part 135 certification tasks” and should include “Docket No. FAA-2024-2063” at the beginning of the comments. The FAA will consider all comments received on or before the closing date and will consider comments filed late if it is possible to do so without incurring delay.

Scott A. Geddie,
Manager, AVS-64, Policy and Oversight Integration Section, AVS ODA Office.

[FR Doc. 2024-27782 Filed 12-4-24; 8:45 am]

BILLING CODE 4910-13-P